DEPARTMENT OF ENERGY

Notice of Wetland Involvement for Installation of a Soils Staging Area (Cell 2) at the Miamisburg Environmental Management Project

AGENCY: Department of Energy (DOE), Miamisburg Environmental Management Project.

ACTION: Notice of wetland involvement

SUMMARY: This is to give notice of DOE's proposal to construct a soil staging area at the Miamisburg Environmental Management Project (MEMP), located approximately ten (10) miles southwest of Dayton, Ohio. The proposed activity would involve a small isolated wetland in Montgomery County, Ohio. In accordance with 10 CFR Part 1022, Compliance with Floodplains/Wetlands Environmental Review Requirements, DOE will prepare a Wetlands Assessment and conduct the proposed action in such a manner as to avoid or minimize potential harm to or within the surrounding environment.

DATES: Written comments must be received by the DOE at the following address on or before July 13, 2000.

ADDRESSES: For further information on this proposed action, including a site map and/or a copy of the Wetlands Assessment, contact: Mr. Art Kleinrath, U. S. Department of Energy, Miamisburg Environmental Management Project, ­P. O. Box 66, Miamisburg, OH 45343-0066.

Phone: (937) 865-3597; Facsimile: (937) 865-4489.

FOR FURTHER INFORMATION CONTACT: For further information on general DOE wetland and floodplain environmental review requirements, contact: Ms. Carol M. Borgstrom, Director, Office of NEPA Policy and Assistance, EH-42, U.S. Department of Energy, 1000 Independence Avenue, SW, Washington, D.C. 20585.

Phone: (202) 586-4600 or 1-800-472-2756.

SUPPLEMENTARY INFORMATION: The proposed activity would directly support the ongoing environmental remediation program at the Mound Plant. Construction of the new soil staging area would impact approximately a 0.03 acre isolated wetland. The wetland is one of several identified in the Delineation of Federal Wetlands and Other Waters of the U.S., Miamisburg Environmental Management Project, August 1999. The proposed action will result in negative, long-term, and direct impacts from the excavation and filling of an isolated wetland of 0.03 acres. The affected wetland would be excavated and filled with soil during the construction of a drainage channel supporting a new soil staging area. Best management practices will be utilized to avoid or minimize potential harm to or within the surrounding environment (e.g., including, but not limited to, minimum grading requirements, runoff controls, and design and construction constraints).

Issued in Miamisburg, Ohio on June 16, 2000.
Susan L. Smiley,
NEPA Compliance Officer, Ohio Field Office.

[FR Doc. 00-16302 Filed 6-27-00; 8:45 am]

BILLING CODE 6450-01-P